DEPARTMENT OF COMMERCE

Bureau of Industry and Security

15 CFR Parts 700, 730, 734, 740, 748, 758 and 762

[Docket No. 061212330-6330-01]

RIN 0694-AD88

Technical Corrections to the Export Administration Regulations and to the Defense Priorities and Allocations System (DPAS) Regulation

AGENCY: Bureau of Industry and Security, Commerce.

ACTION: Final rule; technical corrections.

SUMMARY: The Bureau of Industry and Security (BIS) is amending the Export Administration Regulations (EAR), in Subchapter C, to remove an outdated reference to another agency's schedule that is no longer used by that other agency; to remove an outdated reference to another department's regulations and replace it with the department name and regulatory reference that is currently in use; to correct two references in the EAR that inadvertently directed the public to the wrong sections of the EAR for further information; and to correct contact information listed in the EAR for one (1) telephone number; one (1) fax number; one (1) e-mail address; and two (2) addresses to this rule adds an e-mail address, fax number, and address to clarify for the public where de minimis reports should be sent, when required by the EAR.

BIS is also correcting a typographical error in a final rule published in the Federal Register on July 13, 2006 (71 FR 39526) that made administrative and technical corrections to the Defense Priorities and Allocations System (DPAS) Regulation (15 CFR part 700).

DATES: Effective Date: This rule is effective: January 29, 2007.

ADDRESSES: Although this is a final rule, comments are welcome and should be sent to publiccomments@bis.doc.gov, fax (202) 482-3355, or to Regulatory Policy Division, Bureau of Industry and Security, Room H2705, U.S. Department of Commerce, Washington, DC 20230. Please refer to regulatory identification number (RIN) 0694-AD88 in all comments, and in the subject line of email comments. Comments on the collection of information should be sent to David Rostker, Office of Management and Budget (OMB), by e-mail to David_Rostker@omb.eop.gov, or by fax to (202) 395-7285.

FOR FURTHER INFORMATION CONTACT: For Export Administration Regulation related questions contact Timothy Mooney, Office of Exporter Services, Bureau of Industry and Security, Telephone: (202) 482-2440. For Defense Priorities and Allocations System (DPAS) Regulation related questions contact Liam McMenamin, Office of Strategic Industries and Economic Security, Bureau of Industry and Security, U.S. Department of Commerce, Telephone: (202) 482-2233.

SUPPLEMENTARY INFORMATION: This rule makes the following technical corrections to the Export Administration Regulations (EAR):

In § 734.2 (Important EAR terms and principles), this rule removes an outdated reference to schedule “E” issued by the Bureau of Census in paragraph (b)(8), because schedule “E” has not existed since 1989. Schedule “C” remains in existence and will continue to be listed in paragraph (b)(8) to provide a reference for the public for the Classification of Country and Territory Designations for U.S. Export Statistics, issued by the Bureau of the Census.

In Supplement No. 2 to Part 734 (Calculation of Values for De minimis Rules), this rule revises paragraph (b)(5) and adds new paragraphs (b)(5)(i), (b)(5)(ii) and (b)(5)(iii) to add an e-mail address, fax number, and address, respectively, to clarify for the public where de minimis reports should be sent when required by the EAR and the methods of delivery available.

In § 740.12 (Gift Parcels and Humanitarian Donations (GFT)), this rule corrects an outdated EAR reference in the “note to paragraph (a)”, that directed the public to § 748.9(e) of the EAR for licensing of multiple gift parcels. The correct EAR reference, which this rule adds to the note to paragraph (a), is § 748.8(d). To further assist the public, this rule also adds to the note to paragraph (a) a reference, to Supplement No. 2 to Part 748 paragraph (d), for additional information regarding gift parcels.

In § 740.14 (Baggage (BAG)), this rule removes an outdated reference in paragraph (e)(2) to the “Department of Treasury Regulations (27 CFR 178.115(d)),” because these regulations were renumbered from Part 178 to Part 478 when the law enforcement functions of Alcohol, Tobacco and Firearms (ATF) under the Department of the Treasury were transferred to the Department of Justice, effective January 24, 2003. To conform with these changes, this rule removes the reference to “the Department of Treasury's Regulations (27 CFR 178.115(d))”, and adds the updated reference to “Department of Justice Regulations (27 CFR 478.115(d))”.

In § 748.2 (Obtaining Forms; Mailing Addresses), this rule corrects the contact information listed, in the unassigned paragraph of paragraph (a), for the Bureau of Industry and Security in San Jose, California. The updated contact information for this office is “Bureau of Industry and Security, U.S. Department of Commerce, 96 North 3rd Street, Suite 250, San Jose, CA 95112 ; Tel: (408) 291-4212; Fax: (408) 291-4320”. To conform with this change made in § 748.2(a), this rule also corrects § 730.8 (How to proceed and where to get help), in paragraph (c), by correcting that same reference to the Bureau of Industry and Security in San Jose, California. Also in § 748.2, this rule corrects the zip code listed for the Bureau of Industry and Security in the second sentence of paragraph (c) by removing the zip code “20044” and adding the correct zip code “20230”.

In § 758.5 (Conformity of Documents and Unloading of Items), this rule corrects the e-mail address listed in paragraph (e)(2)(ii) for the Regulatory Policy Division. The correct e-mail address, which this rule adds to that paragraph, is “rpd2@bis.doc.gov”.

In § 762.6 (Period of Retention), this rule corrects an outdated EAR reference in paragraph (b) that, prior to publication of this rule, had directed the public to § 765.5(c)(4)(ii) for records pertaining to voluntary disclosures. The correct EAR reference, which this rule adds to that sentence, is § 764.5(c)(4)(ii).

This rule also makes the following correction to the Defense Priorities and Allocations System (DPAS) Regulation:

In Schedule I to Part 700—Approved Programs and Delegate Agencies, there is a typographical error in the form of the word “and” in the N5 Approved Program description. This rule corrects the N5 Approved Program description to read “Domestic counter-terrorism, including law enforcement.”

Although the Export Administration Act expired on August 20, 2001, the President, through Executive Order 13222 of August 17, 2001, 3 CFR, 2001 Comp., p. 783 (2002), as extended by the Notice of August 3, 2006, (71 FR 44551 (August 7, 2006), has continued the Export Administration Regulations in effect under the International Emergency Economic Powers Act (50 U.S.C. 1701-1706 (2000)) (IEEPA).

Rulemaking Requirements

This final rule has been determined to be not significant for purposes of E.O. 12866.

2. Notwithstanding any other provision of law, no person is required to respond to, nor shall any person be subject to a penalty for failure to comply with a collection of information, subject to the requirements of the Paperwork Reduction Act, unless that collection of information displays a currently valid Office of Management and Budget Control Number. This rule contains a collection of information subject to the Paperwork Reduction Act of 1980 (44 U.S.C. 3501 et seq.). This collection has been approved by the Office of Management and Budget under control number 0694-0088, “Multi-Purpose Application,” which carries a burden hour estimate of 58 minutes for a manual or electronic submission. Send comments regarding these burden estimates or any other aspect of these collections of information, including suggestions for reducing the burden, to David Rostker, OMB Desk Officer, by e-mail at david_roskter@omb.eop.gov or by fax to (202) 395-7285; and to the Regulatory Policy Division, Bureau of Industry and Security, Department of Commerce, P.O. Box 273, Washington, DC 20044.

3. This rule does not contain policies with Federalism implications as that term is defined under E.O. 13132.

4. The Department finds that there is good cause under 5 U.S.C. 553 (b)(B) to waive the provisions of the Administrative Procedure Act requiring prior notice and the opportunity for public comment because it is unnecessary. The revisions made by this rule are administrative in nature and do not affect the rights and obligations of the public. Because these revisions are not substantive changes to the EAR and to the DPAS, it is unnecessary to provide notice and opportunity for public comment. In addition, the 30-day delay in effectiveness required by U.S.C. 553(d) is not applicable because this rule is not a substantive rule. No other law requires that a notice of proposed rulemaking and an opportunity for public comment be given for this rule.

Because notice of proposed rulemaking and opportunity for public comment are not required to be given for this rule under the Administrative Procedure Act or by any other law, the analytical requirements of the Regulatory Flexibility Act (5 U.S.C. 601 et seq.) are not applicable. Therefore, this regulation is issued in final form. Although there is no formal comment period, public comments on this regulation are welcome on a continuing basis. Comments should be submitted to Timothy Mooney, Office of Exporter Services, Bureau of Industry and Security, Department of Commerce, P.O. Box 273, Washington, DC 20044.

List of Subjects

15 CFR Part 700

Administrative practice and procedure, Business and industry, Government contracts, National defense, Reporting and recordkeeping requirements, Strategic and critical materials.

15 CFR Part 730

Administrative practice and procedure, Advisory committees, Exports, Reporting and recordkeeping requirements, Strategic and critical materials.

15 CFR Part 734

Administrative practice and procedure, Exports, Inventions and patents, Research, Science and technology.

15 CFR Part 740 and 758

Administrative practice and procedure, Exports, Reporting and recordkeeping requirements.

15 CFR Part 748

Exports, Reporting and recordkeeping requirements.

15 CFR Part 762

Administrative practice and procedure, Business and industry, Confidential business information, Exports, Reporting and recordkeeping requirements.

Accordingly, parts 730, 734, 740, 748, 758 and 762 of the Export Administration Regulations (15 CFR parts 730-799) and part 700 of the Defense Priorities and Allocations System (DPAS) Regulation (15 CFR part 700) are amended as follows:

PART 700—[CORRECTED]

1. The authority citation for 15 CFR part 700 continues to read as follows:

Authority: Titles I and VII of the Defense Production Act of 1950, as amended (50 U.S.C. App. 2061, et seq.), Title VI of the Robert T. Stafford Disaster Relief and Emergency Assistance Act (42 U.S.C. 5195, et seq.), Executive Order 12919, 59 FR 29525, 3 CFR, 1994 Comp. 901, and Executive Order 13286, 68 FR 10619, 3 CFR, 2003 Comp. 166; section 18 of the Selective Service Act of 1948 (50 U.S.C. App. 468), 10 U.S.C. 2538, 50 U.S.C. 82, and Executive Order 12742, 56 FR 1079, 3 CFR, 1991 Comp. 309; and Executive Order 12656, 53 FR 226, 3 CFR, 1988 Comp. 585.

Schedule I to Part 700 [Amended]

2. In Schedule I to Part 700—Approved Programs and Delegate Agencies, under the “Approved program” column, correct “Domestic and counter-terrorism, including law enforcement” to read “Domestic counter-terrorism, including law enforcement”.

PART 730—[AMENDED]

3. The authority citation for 15 CFR part 730 continues to read as follows:

Authority: 50 U.S.C. app. 2401 et seq.; 50 U.S.C. 1701 et seq.; 10 U.S.C. 7420; 10 U.S.C. 7430(e); 22 U.S.C. 287c; 22 U.S.C. 2151 note, Pub. L. 108-175; 22 U.S.C. 3201 et seq.; 22 U.S.C. 6004; 30 U.S.C. 185(s), 185(u); 42 U.S.C. 2139a; 42 U.S.C. 6212; 43 U.S.C. 1354; 46 U.S.C. app. 466c; 50 U.S.C. app. 5; Sec. 901-911, Pub. L. 106-387; Sec. 221, Pub. L. 107-56; E.O. 11912, 41 FR 15825, 3 CFR, 1976 Comp., p. 114; E.O. 12002, 42 FR 35623, 3 CFR, 1977 Comp., p. 133; E.O. 12058, 43 FR 20947, 3 CFR, 1978 Comp., p. 179; E.O. 12214, 45 FR 29783, 3 CFR, 1980 Comp., p. 256; E.O. 12851, 58 FR 33181, 3 CFR, 1993 Comp., p. 608; E.O. 12854, 58 FR 36587, 3 CFR, 1993 Comp., p. 179; E.O. 12918, 59 FR 28205, 3 CFR, 1994 Comp., p. 899; E.O. 12938, 59 FR 59099, 3 CFR, 1994 Comp., p. 950; E.O. 12947, 60 FR 5079, 3 CFR, 1995 Comp., p. 356; E.O. 12981, 60 FR 62981, 3 CFR, 1995 Comp., p. 419; E.O. 13020, 61 FR 54079, 3 CFR, 1996 Comp., p. 219; E.O. 13026, 61 FR 58767, 3 CFR, 1996 Comp., p. 228; E.O. 13099, 63 FR 45167, 3 CFR, 1998 Comp., p.208; E.O. 13222, 66 FR 44025, 3 CFR, 2001 Comp., p. 783; E.O. 13224, 66 FR 49079, 3 CFR, 2001 Comp., p. 786; E.O. 13338, 69 FR 26751, May 13, 2004; Notice of August 3, 2006, 71 FR 44551 (August 7, 2006); Notice of October 27, 2006, 71 FR 64109 (October 31, 2006).

4. Section 730.8 is amended by revising the undesignated paragraph at the end of paragraph (c) for the “U.S. Export Assistance Center” to read as follows:

§ 730.8 How to proceed and where to get help.

* * * * *

(c) * * *

Bureau of Industry and Security, U.S. Department of Commerce, 96 North 3rd Street, Suite 250, San Jose, CA 95112, Tel: (408) 291-4212, Fax: (408) 291-4320.

PART 734—[AMENDED]

5. The authority citation for 15 CFR part 734 is revised to read as follows:

Authority: 50 U.S.C. app. 2401 et seq.; 50 U.S.C. 1701 et seq.; E.O. 12938, 59 FR 59099, 3 CFR, 1994 Comp., p. 950; E.O. 13020, 61 FR 54079, 3 CFR, 1996 Comp., p. 219; E.O. 13026, 61 FR 58767, 3 CFR, 1996 Comp., p. 228; E.O. 13222, 66 FR 44025, 3 CFR, 2001 Comp., p. 783; Notice of August 3, 2006, 71 FR 44551 (August 7, 2006); Notice of October 27, 2006, 71 FR 64109 (October 31, 2006).

6. Section 734.2 is amended by revising the last sentence of paragraph (b)(8) to read as follows:

§ 734.2 Important EAR terms and principles.

* * * * *

(b) * * *

(8) * * * These destinations are listed in Schedule C, Classification Codes and Descriptions for U.S. Export Statistics, issued by the Bureau of the Census.

* * * * *

7. Supplement No. 2 to part 734 is amended by revising paragraph (b)(5) to read as follows:

Supplement No. 2 to Part 734—Calculation of Values for De Minimis Rules

* * * * *

(b) * * *

(5) Report and wait. If you have not been contacted by BIS concerning your report within thirty days after filing the report with BIS, you may rely upon the calculations in your report and the de minimis exclusions for software and technology for so long as you are not contacted by BIS. BIS may contact you concerning your report to inquire of you further or to indicate that BIS does not accept the assumptions or rationale for your calculations. If you receive such a contact or communication from BIS, you may not rely upon the de minimis exclusions for software and technology in § 734.4 of this part until BIS has indicated whether or not you may do so in the future. You must include in your report the name, title, address, telephone number, and facsimile number of the person BIS may contact concerning your report. Please submit your report to:

(i) E-mail: rpd2@bis.doc.gov;

(ii) Fax: (202) 482-3355; or

(iii) Mail or Hand Delivery/Courier: Regulatory Policy Division, U.S. Department of Commerce, Bureau of Industry and Security, Regulatory Policy Division, 14th and Pennsylvania Avenue, NW., Room 2705, Washington, DC 20230.

PART 740—[AMENDED]

8. The authority citation for 15 CFR part 740 continues to read as follows:

Authority: 50 U.S.C. app. 2401 et seq.; 50 U.S.C. 1701 et seq.; Sec. 901-911, Pub. L. 106-387; E.O. 13026, 61 FR 58767, 3 CFR, 1996 Comp., p. 228; E.O. 13222, 66 FR 44025, 3 CFR, 2001 Comp., p. 783; Notice of August 3, 2006, 71 FR 44551 (August 7, 2006).

9. Section 740.12 is amended by revising the last sentence of Note to paragraph (a) to read as follows:

§ 740.12 Gift Parcels and Humanitarian Donations (GFT).

(a) * * *

Note to paragraph (a) of this section:

* * * (See § 748.8(d) and Supplement No. 2 to Part 748 paragraph (d) of the EAR for licensing of multiple gift parcels).

* * * * *

10. Section 740.14 is amended by revising paragraph (e)(2) to read as follows:

§ 740.14 Baggage (BAG).

* * * * *

(e) * * *

(2) A nonresident alien leaving the United States may export or reexport under this License Exception only such shotguns and shotgun shells as he or she brought into the United States under the provisions of the Department of Justice Regulations (27 CFR 478.115(d)).

* * * * *

PART 748—[AMENDED]

11. The authority citation for 15 CFR part 748 continues to read as follows:

Authority: 50 U.S.C. app. 2401 et seq.; 50 U.S.C. 1701 et seq.; E.O. 13026, 61 FR 58767, 3 CFR, 1996 Comp., p. 228; E.O. 13222, 66 FR 44025, 3 CFR, 2001 Comp., p. 783; Notice of August 3, 2006, 71 FR 44551 (August 7, 2006).

12. Section 748.2 is amended:

a. By revising the undesignated paragraph at the end of paragraph (a) for the “U.S. Export Assistance Center”; and

b. By revising paragraph (c) to read as follows:

§ 748.2 Obtaining forms; mailing addresses.

(a) * * *

Bureau of Industry and Security, U.S. Department of Commerce, 96 North 3rd Street, Suite 250, San Jose, CA 95112, Tel: (408) 291-4212, Fax: (408) 291-4320.

(b) * * *

(c) All applications should be mailed to the following address, unless otherwise specified: Bureau of Industry and Security, U.S. Department of Commerce, P.O. Box 273, Washington, DC 20044. If you wish to submit your application using an overnight courier, use the following address: Bureau of Industry and Security, U.S. Department of Commerce, 14th Street and Pennsylvania Avenue, NW., Room 2705, Washington, DC 20230, Attn: “Application Enclosed”. BIS will not accept applications sent C.O.D.

PART 758—[AMENDED]

13. The authority citation for 15 CFR part 758 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

14. Section 758.5 is amended by revising paragraph (e)(2)(ii) to read as follows:

§ 758.5 Conformity of documents and unloading of items.

* * * * *

(e) * * *

(2) * * *

(ii) Contact information. U.S. Department of Commerce, Bureau of Industry and Security, Office of Exporter Services, Room 2705, 14th and Pennsylvania Avenue, NW., Washington, DC 20230; phone number 202-482-0436; facsimile number 202-482-3322; and E-Mail address: rpd2@bis.doc.gov.

PART 762—[AMENDED]

15. The authority citation for 15 CFR part 762 is revised to read as follows:

Authority: 50 U.S.C. app. 2401 et seq.; 50 U.S.C. 1701 et seq.; E.O. 13222, 66 FR 44025, 3 CFR, 2001 Comp., p. 783; Notice of August 3, 2006, 71 FR 44551 (August 7, 2006).

16. Section 762.6 is amended by revising the last sentence of paragraph (b) to read as follows:

§ 762.6 Period of retention.

* * * * *

(b) * * * This prohibition applies to records pertaining to voluntary disclosures made to BIS in accordance with § 764.5(c)(4)(ii) and other records even if such records have been retained for a period of time exceeding that required by paragraph (a) of this section.

Dated: January 23, 2007.
Matthew S. Borman,
Deputy Assistant Secretary for Export Administration.

[FR Doc. E7-1336 Filed 1-26-07; 8:45 am]

BILLING CODE 3510-33-P